NATIONAL SCIENCE FOUNDATION

Sunshine Act Meetings

The National Science Board (NSB) hereby gives notice of the scheduling of teleconference meetings for the transaction of National Science Board business pursuant to the National Science Foundation Act and the Government in the Sunshine Act.

TIME AND DATE: Thursday, May 5, 2022, from 10:30 a.m.-4:45 p.m., and Friday, May 6, 2022, from 10:30-2:30 p.m. EDT.

PLACE: These meetings will be held at the NSF headquarters, 2415 Eisenhower Avenue, Alexandria, VA 22314, and by videoconference. There will be no in-person attendance by the public. Members of the public may observe the public meetings, which will be streamed to the NSF You Tube channel.

May 5, 2022: https://youtu.be/EgeS0log4nc

May 6, 2022: https://youtu.be/9fvLiKEJ6bs

STATUS: Parts of these meetings will be open to the public. The rest of the meetings will be closed to the public. See full description below.

MATTERS TO BE CONSIDERED:

Thursday, May 5, 2022

Plenary Board Meeting

Open Session: 10:30 a.m.-12:45 p.m.

• NSB Chair's Remarks

• NSF Director's Remarks

• Presentation

• Cool Science presentations

• NSB Chair's Activities

• NSB Panel, Geography of Federal Funding

• Q&A with the 2022 NSF Waterman and NSB Public Service Awardees:

Daniel B. Larremore

Lara A. Thompson

Jessica E. Tierney

Betty L. Anderson

Rene Robinson, National Organization for the Advancement of Black Chemists and Chemical Engineers

Open Session: 2:40 p.m.-4:45 p.m.

• Discussion with the Undersecretary of Commerce for Oceans and Atmosphere and NOAA Administrator

• Committee on Strategy Report

• Committee on Oversight Report

• Committee on External Engagement Report

Honorary Awards—Recommendations for change and discussion

• Committee on National Science and Engineering Policy Report

Discussion of draft “International STEM Talent for a Robust U.S. Economy”

Vote for approval

• K-12 STEM Education Exploratory Group Update

Friday, May 6, 2022

Plenary Board

Open Session: 10:30 a.m.-11 a.m.

• NSB Chair Welcome and Remarks

• Approval of February 2022 Open Minutes

• NSF Director's Remarks

Senior Staff Updates

OLPA Update Information Item

Closed Session: 11 a.m.-12:45 p.m.

• NSB Chair's Opening Remarks

• Approval of February 2022 Closed Minutes

• NSF Director's Remarks

Agency Operating Status

Budget and Program Updates

• Committee on Awards and Facilities Report

• Committee on Strategy Report

• Subcommittee on Technology, Innovation, and Partnerships Report

• Vote to Enter Executive Session

Executive Closed Agenda Items: 11:55 a.m.-12:45 p.m.

• NSB Chair's Opening Remarks

• Approval of February 2022 Executive Closed Minutes

• NSF Director's Remarks

Organizational Updates

• Board Elections

Open Session: 12:45 p.m.-2:30 p.m.

• Vision Retrospective

Summary of accomplishments—two years implementing the NSB Vision

• NSB Chair's Farewell to Members

• NSF Director's Farewell to Outgoing Members

Meeting Adjourns: 2:30 p.m.

Portions Open to the Public

Thursday, May 5, 2022

10:30 a.m.-12:45 p.m. Plenary NSB

12:55 p.m.—1:40 p.m. Plenary NSB

2:40 p.m.—4:45 p.m. Plenary NSB

Friday, May 6, 2022

10:30 a.m.-11 a.m. Plenary NSB

1:30 p.m.-2:30 p.m. Plenary NSB

Portions Closed to the Public

Friday, May 6, 2022

11 a.m.-12:45 p.m. Plenary NSB, including executive closed items

All open sessions of the meeting will be webcast live on the NSB YouTube channel.

May 5, 2022: https://youtu.be/EgeS0log4nc

May 6, 2022: https://youtu.be/9fvLiKEJ6bs

Please refer to the NSB website for additional information. You will find any updated meeting information at https://www.nsf.gov/nsb.

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Chris Blair, cblair@nsf.gov, 703-292-7000. The NSB Public Affairs contact is Nadine Lymn, nlymn@nsf.gov, 703-292-2490.

Chris Blair,
Executive Assistant to the National Science Board Office.

[FR Doc. 2022-09503 Filed 4-28-22; 4:15 pm]

BILLING CODE 7555-01-P